DEPARTMENT OF ENERGY

Federal Energy Regulatory Commission

Combined Notice of Filings #1

Take notice that the Commission received the following electric corporate filings:

Docket Numbers: EC11-115-000.

Applicants: Black River Generation, LLC, ReEnergy Black River LLC.

Description: Application for Authorization for Disposition of Jurisdictional Facilities and Request for Expedition and Certain Waivers of Black River Generation, LLC and ReEnergy Black River LLC.

Filed Date: 09/07/2011.

Accession Number: 20110907-5102.

Comment Date: 5 p.m. Eastern Time on Wednesday, September 28, 2011.

Take notice that the Commission received the following electric rate filings:

Docket Numbers: ER11-3163-001.

Applicants: Kansas Energy LLC.

Description: Kansas Energy LLC submits tariff filing per 35: Notice of Non-Material Change in Status and Tariff Amendment to be effective 11/7/2011.

Filed Date: 09/07/2011.

Accession Number: 20110907-5036.

Comment Date: 5 p.m. Eastern Time on Wednesday, September 28, 2011.

Docket Numbers: ER11-3880-001.

Applicants: Vermont Transco, LLC.

Description: Vermont Transco, LLC submits tariff filing per 35: Vermont Transco 1991 Transmission Agreement Compliance Filing to be effective 7/1/2011.

Filed Date: 09/08/2011.

Accession Number: 20110908-5044.

Comment Date: 5 p.m. Eastern Time on Thursday, September 29, 2011.

Docket Numbers: ER11-4200-001.

Applicants: New York Independent System Operator, Inc.

Description: Motion of New York Independent System Operator, Inc. in Opposition to Amendment and, in the Alternative, Answer; and Motion Seeking Waiver of Tariff Requirements Regarding Black Start Service.

Filed Date: 09/02/2011.

Accession Number: 20110902-5152.

Comment Date: 5 p.m. Eastern Time on Tuesday, September 13, 2011.

Docket Numbers: ER11-4445-000.

Applicants: Black Hills Power, Inc.

Description: Black Hills Power, Inc. submits tariff filing per 35.15: Cancellation (Complete Tariff ID) to be effective 9/6/2011.

Filed Date: 09/06/2011.

Accession Number: 20110906-5136.

Comment Date: 5 p.m. Eastern Time on Tuesday, September 27, 2011.

Docket Numbers: ER11-4446-000.

Applicants: Northern States Power Company, a Wisconsin.

Description: Northern States Power Company, a Wisconsin corporation submits tariff filing per 35: 20110906_Compliance Filing to be effective 8/11/2010.

Filed Date: 09/06/2011.

Accession Number: 20110906-5156.

Comment Date: 5 p.m. Eastern Time on Tuesday, September 27, 2011.

Docket Numbers: ER11-4447-000.

Applicants: Mac Trading, Inc.

Description: Mac Trading, Inc. submits tariff filing per 35.1: Rate Schedule FERC No. 1 to be effective 9/7/2011.

Filed Date: 09/07/2011.

Accession Number: 20110907-5044.

Comment Date: 5 p.m. Eastern Time on Wednesday, September 28, 2011.

Docket Numbers: ER11-4448-000.

Applicants: AEP Texas Central Company.

Description: AEP Texas Central Company submits tariff filing per 35.13(a)(2)(iii: 20110907 TCC-South Texas Electric Coop Amended & Restated IA to be effective 8/18/2011.

Filed Date: 09/07/2011.

Accession Number: 20110907-5049.

Comment Date: 5 p.m. Eastern Time on Wednesday, September 28, 2011.

Docket Numbers: ER11-4449-000.

Applicants: Starion Energy Inc.

Description: Starion Energy Inc. submits tariff filing per 35.1: Market-Based Rate Tariff Baseline to be effective 9/7/2011.

Filed Date: 09/07/2011.

Accession Number: 20110907-5068.

Comment Date: 5 p.m. Eastern Time on Wednesday, September 28, 2011.

Docket Numbers: ER11-4450-000.

Applicants: Starion Energy NY, Inc.

Description: Starion Energy NY, Inc. submits tariff filing per 35.1: Market-Based Rate Tariff Baseline to be effective 9/7/2011.

Filed Date: 09/07/2011.

Accession Number: 20110907-5073.

Comment Date: 5 p.m. Eastern Time on Wednesday, September 28, 2011.

Docket Numbers: ER11-4451-000.

Applicants: Santanna Energy Services.

Description: Santanna Energy Services submits tariff filing per 35.12: Market Based Rates Tariff to be effective 9/30/2011.

Filed Date: 09/07/2011.

Accession Number: 20110907-5074.

Comment Date: 5 p.m. Eastern Time on Wednesday, September 28, 2011.

Docket Numbers: ER11-4452-000.

Applicants: Buy Energy Direct LLC.

Description: Buy Energy Direct LLC submits tariff filing per 35.1: BASE LINE FILLING to be effective 9/7/2011.

Filed Date: 09/07/2011.

Accession Number: 20110907-5076.

Comment Date: 5 p.m. Eastern Time on Wednesday, September 28, 2011.

Docket Numbers: ER11-4453-000.

Applicants: Santanna Energy Services.

Description: Santanna Energy Services submits tariff filing per 35.12: Market Based Rates Tariff to be effective 9/30/2011.

Filed Date: 09/07/2011.

Accession Number: 20110907-5081.

Comment Date: 5 p.m. Eastern Time on Wednesday, September 28, 2011.

Docket Numbers: ER11-4454-000.

Applicants: Puget Sound Energy, Inc.

Description: Puget Sound Energy, Inc submits the Average System Cost Rate Filing for FY 2012-2013 under ER11-4454.

Filed Date: 09/07/2011.

Accession Number: 20110907-0203.

Comment Date: 5 p.m. Eastern Time on Wednesday, September 28, 2011.

Docket Numbers: ER11-4455-000.

Applicants: Thornwood Management Company, LLC.

Description: Thornwood Management Company LLC submits a notice of cancellation under ER11-4455.

Filed Date: 09/07/2011.

Accession Number: 20110907-0202.

Comment Date: 5 p.m. Eastern Time on Wednesday, September 28, 2011.

Docket Numbers: ER11-4456-000.

Applicants: PJM Interconnection, LLC, American Electric Power Service Corporation.

Description: PJM Interconnection, LLC submits tariff filing per 35.13(a)(2)(iii: AEPSC submits SA No. 1336—28th Revised ILDSA among AEPSC & Buckeye to be effective 3/8/2011.

Filed Date: 09/07/2011.

Accession Number: 20110907-5112.

Comment Date: 5 p.m. Eastern Time on Wednesday, September 28, 2011.

Docket Numbers: ER11-4457-000.

Applicants: PSEG Energy Resources & Trade LLC.

Description: PSEG Energy Resources & Trade LLC submits tariff filing per 35: Compliance Filing Pursuant to Section 205 of the Federal Power Act to be effective 9/7/2011.

Filed Date: 09/07/2011.

Accession Number: 20110907-5116.

Comment Date: 5 p.m. Eastern Time on Wednesday, September 28, 2011.

Docket Numbers: ER11-4458-000.

Applicants: Midwest Independent Transmission System Operator, Inc.

Description: Midwest Independent Transmission System Operator, Inc. submits tariff filing per 35.13(a)(2)(iii: G645 Amended GIA to be effective 9/8/2011.

Filed Date: 09/07/2011.

Accession Number: 20110907-5133.

Comment Date: 5 p.m. Eastern Time on Wednesday, September 28, 2011.

Docket Numbers: ER11-4459-000.

Applicants: El Paso Electric Company.

Description: El Paso Electric Company submits tariff filing per 35.13(a)(2)(iii: Revisions to OATT Attachment M to be effective 11/1/2011.

Filed Date: 09/07/2011.

Accession Number: 20110907-5142.

Comment Date: 5 p.m. Eastern Time on Wednesday, September 28, 2011.

Docket Numbers: ER11-4460-000.

Applicants: Rocky Mountain Reserve Group.

Description: Rocky Mountain Reserve Group submits tariff filing per 35.1: 20110907_RMRG Bylaws to be effective 11/6/2011.

Filed Date: 09/07/2011.

Accession Number: 20110907-5147.

Comment Date: 5 p.m. Eastern Time on Wednesday, September 28, 2011.

Docket Numbers: ER11-4461-000.

Applicants: Black Hills Power, Inc.

Description: Black Hills Power, Inc. submits tariff filing per 35.1: JOATT Baseline to be effective 9/30/2010.

Filed Date: 09/07/2011.

Accession Number: 20110907-5148.

Comment Date: 5 p.m. Eastern Time on Wednesday, September 28, 2011.

Docket Numbers: ER11-4462-000.

Applicants: NEPM II, LLC.

Description: NEPM II, LLC submits tariff filing per 35.12: NEPM II, LLC MBR Tariff to be effective 11/1/2011.

Filed Date: 09/08/2011.

Accession Number: 20110908-5000.

Comment Date: 5 p.m. Eastern Time on Thursday, September 29, 2011.

Docket Numbers: ER11-4463-000.

Applicants: Southern California Edison Company.

Description: Southern California Edison Company submits tariff filing per 35.13(a)(2)(iii: SGIA WDT SERV SCE-Photon Solar 9000-9001 9th St Rancho Roof Top Solar Project to be effective 9/9/2011.

Filed Date: 09/08/2011.

Accession Number: 20110908-5001.

Comment Date: 5 p.m. Eastern Time on Thursday, September 29, 2011.

Docket Numbers: ER11-4464-000.

Applicants: Southern California Edison Company.

Description: Southern California Edison Company submits tariff filing per 35.13(a)(2)(iii: SGIA WDT SERV SCE-Photon Solar 8449 Miliken Rancho Roof Top Solar Project to be effective 9/9/2011.

Filed Date: 09/08/2011.

Accession Number: 20110908-5002.

Comment Date: 5 p.m. Eastern Time on Thursday, September 29, 2011.

Docket Numbers: ER11-4465-000.

Applicants: Southern California Edison Company.

Description: Southern California Edison Company submits tariff filing per 35.13(a)(2)(iii: SGIA WDT SERV SCE-Photon Solar Ellipse Foothill Ranch Roof Top Solar Project to be effective 9/9/2011.

Filed Date: 09/08/2011.

Accession Number: 20110908-5003.

Comment Date: 5 p.m. Eastern Time on Thursday, September 29, 2011.

Docket Numbers: ER11-4466-000.

Applicants: Southern California Edison Company.

Description: Southern California Edison Company submits tariff filing per 35.13(a)(2)(iii: SGIA WDT SERV SCE-Photon Solar 6201-6251 Knott Buena Park Roof Top Solar Project to be effective 9/9/2011.

Filed Date: 09/08/2011.

Accession Number: 20110908-5004.

Comment Date: 5 p.m. Eastern Time on Thursday, September 29, 2011.

Docket Numbers: ER11-4467-000.

Applicants: ISO New England Inc.

Description: ISO New England Inc. submits tariff filing per 35.13(a)(2)(iii: Market Rule 1 Appendix A Clean-up Filing to be effective 9/8/2011.

Filed Date: 09/08/2011.

Accession Number: 20110908-5042.

Comment Date: 5 p.m. Eastern Time on Thursday, September 29, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2011.
Nathaniel J. Davis, Sr.,
Deputy Secretary.

[FR Doc. 2011-23748 Filed 9-15-11; 8:45 am]

BILLING CODE 6717-01-P